DEPARTMENT OF HEALTH AND HUMAN SERVICES

Office of the Secretary

Findings of Research Misconduct

AGENCY: Office of the Secretary, HHS.

ACTION: Notice.

SUMMARY: Notice is hereby given that the Office of Research Integrity (ORI) and the Assistant Secretary for Health have taken final action in the following case:

Wei Jin, Colorado State University: Based on an investigation conducted by Colorado State University (CSU) and additional analysis and information obtained by the Office of Research Integrity during its oversight review, the U.S. Public Health Service (PHS) found that Mr. Wei Jin, former doctoral candidate, Department of Chemistry, CSU, engaged in research misconduct in research funded by National Cancer Institutes (NCI), National Institutes of Health (NIH), grant R01 CA85419.

Specifically, Mr. Jin falsified data/results by claiming he had performed a novel total synthesis of renieramycin G, when in fact, he obtained renieramycin G through a relatively simple reaction sequence from renieramycin M, a natural product that was a gift to the laboratory and that had been isolated by others from the Thai sponge. Mr. Jin included the falsified data/results in:

• His research notebooks and other records of his research;

• His dissertation, “Asymmetric total synthesis of (−)-Reineramycin G and studies toward the total synthesis of Ecteinascidin-743”;

• A manuscript, Jin, W. & Williams, R., “Asymmetric total synthesis of (−)-Renieramycin G,” accepted by the Journal of the American Chemical Society; and

• Supplemental information relative to the manuscript to be published online.

ORI has implemented the following administrative actions for a period of three (3) years, beginning on May 8, 2007:

(1) Mr. Jin is debarred from eligibility for any contracting or subcontracting with any agency of the United States Government and from eligibility or involvement in nonprocurement programs of the United States Government referred to as “covered transactions” as defined in HHS' implementation of OMB Guidelines to Agencies on Government-wide Debarment and Suspension at 2 CFR Part 376, et seq.; and

(2) Mr. Jin is prohibited from serving in any advisory capacity to PHS, including but not limited to service on any PHS advisory committee, board, and/or peer review committee, or as a consultant.

FOR FURTHER INFORMATION CONTACT: Director, Division of Investigative Oversight, Office of Research Integrity, 1101 Wootton Parkway, Suite 750, Rockville, MD 20852, (240) 453-8800.

John Dahlberg,
Acting Director, Office of Research Integrity.

[FR Doc. 07-2866 Filed 6-8-07; 8:45 am]

BILLING CODE 4150-31-M